DEPARTMENT OF TRANSPORTATION

Federal Aviation Administration

14 CFR Part 39

[Docket No. 2002-SW-25-AD; Amendment 39-13709; AD 2003-13-15 R1]

RIN 2120-AA64

Airworthiness Directives; Schweizer Aircraft Corporation Model 269A, 269A-1, 269B, 269C, and TH-55A Helicopters

AGENCY: Federal Aviation Administration, DOT.

ACTION: Final rule.

SUMMARY: This amendment revises an existing airworthiness directive (AD), for the specified Schweizer Aircraft Corporation (Schweizer) model helicopters, that currently requires inspecting the lugs on certain aft cluster fittings and each aluminum end fitting on certain tailboom struts. Modifying or replacing each strut assembly within a specified time period and serializing certain strut assemblies are also required. Additionally, a one-time inspection and repair, if necessary, of certain additional cluster fittings, and replacement and modification of certain cluster fittings within 150 hours time-in-service (TIS) or 6 months, whichever occurs first, is required. This amendment requires the same actions as the existing AD, but revises the Applicability section of the AD. This amendment is prompted by the discovery of an error in the Applicability section of the existing AD. The actions specified by this AD are intended to prevent failure of a tailboom support strut or a cluster fitting, which could cause rotation of a tailboom into the main rotor blades, and subsequent loss of control of the helicopter.

DATES: Effective August 10, 2004.

The incorporation by reference of certain publications listed in the regulations was approved previously by the Director of the Federal Register as of August 12, 2003 (68 FR 40478, July 8, 2003).

ADDRESSES: The service information referenced in this AD may be obtained from Schweizer Aircraft Corporation, P.O. Box 147, Elmira, New York 14902. This information may be examined at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

FOR FURTHER INFORMATION CONTACT: George Duckett, Aviation Safety Engineer, FAA, New York Aircraft Certification Office, Airframe and Propulsion Branch, 10 Fifth Street, 3rd Floor, Valley Stream, New York, telephone (516) 256-7525, fax (516) 568-2716.

SUPPLEMENTARY INFORMATION: A proposal to amend 14 CFR part 39 by revising AD 2003-13-15, Amendment 39-13217 (68 FR 40478, July 8, 2003), for the specified Schweizer helicopters, was published in the Federal Register on February 19, 2004 (69 FR 7710). The action proposed to require certified persons to:

• Within 10 hours TIS and thereafter at intervals not to exceed 50 hours TIS, dye-penetrant inspect the lugs and replace any cracked cluster fitting;

• Within 150 hours TIS or 6 months, whichever occurs first, replace or modify, using kit, part number (P/N) SA-269K-106-1, each cluster fitting, P/N 269A2234 and P/N 269A2235;

• For strut assemblies, P/N 269A2015 or P/N 269A2015-5, at intervals not to exceed 50 hours TIS, visually inspect the strut aluminum end fittings for deformation or damage, dye-penetrant inspect the strut aluminum end fittings for a crack, and replace deformed, damaged, or cracked parts. Within 500 hours TIS or one year, whichever occurs first, modify or replace certain part-numbered strut assemblies;

• Within 100 hours TIS, for Model 269C helicopters, serialize each strut assembly, P/N 269A2015-5 and 269A2015-11;

• Within 25 hours TIS or 60 days, whichever occurs first, inspect and repair cluster fittings, P/N 269A2234-3 and P/N 269A2235-3; and

• Before further flight, replace any cluster fitting that is cracked or has a surface defect beyond rework limits.

Interested persons have been afforded an opportunity to participate in the making of this amendment. No comments were received on the proposal or the FAA's determination of the cost to the public. The FAA has determined that air safety and the public interest require the adoption of the rule as proposed.

The FAA estimates that 1,000 helicopters of U.S. registry will be affected by the AD. It will take approximately 2.5 work hours for each dye-penetrant inspection, 12 work hours to replace one cluster fitting, 4 work hours to modify or replace the strut assembly, 0.25 work hours to serialize the strut assembly, and 16 work hours to modify a cluster fitting. The average labor rate is $65 per work hour. Required parts will cost approximately $5 for each fitting inspection, $1,635 to replace a cluster fitting, $1,500 to modify or replace the strut assembly, and $1,688 for each cluster fitting modification kit (2 cluster fittings). Based on these figures, the total cost impact of the AD on U.S. operators is estimated to be $2,369,248 (assuming 2,000 cluster fittings are inspected, 50 cluster fittings are replaced, 6 strut assemblies are modified or replaced, 6 strut assemblies are serialized, and 1,010 cluster fittings are modified).

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-13217 (68 FR 40478, July 8, 2003), and by adding a new airworthiness directive (AD), Amendment 39-13709, to read as follows:

2003-13-15 R1 Schweizer Aircraft Corporation: Amendment 39-13709. Docket No. 2002-SW-25-AD. Revises AD 2003-13-15, Amendment 39-13217, Docket No. 2002-SW-25-AD.

Applicability: Model 269A, 269A-1, 269B, 269C, and TH-55A helicopters, certificated in any category, with a tailboom support strut (strut) assembly, part number (P/N) 269A2015 or 269A2015-5; or with a center frame aft cluster fitting, P/N 269A2234 or 269A2235, and an aft cluster fitting listed in the following table:

Helicopter model number | Helicopter serial number | With aft cluster fitting, P/N
Model 269C | 0570 through 1165 | 269A2234-3.
Model 269C | 0500 through 1165 | 269A2235-3.
Model 269A, A-1, B, or C, or TH-55A | All | 269A2234-3 or 269A2235-3.

Exception: For the Model 269A, A-1, B, or C or TH-55A helicopters with cluster fittings, P/N 269A2234-3 or P/N 269A2235-3, installed, if there is written documentation in the aircraft or manufacturer's records that shows the cluster fitting was originally sold by the manufacturer after June 1, 1988, the requirements of this AD are not applicable.

Compliance: Required as indicated, unless accomplished previously.

To prevent failure of a tailboom support strut or lug on a cluster fitting, which could cause rotation of a tailboom into the main rotor blades, and subsequent loss of control of the helicopter, accomplish the following:

(a) Within 10 hours time-in-service (TIS), and thereafter at intervals not to exceed 50 hours TIS, for helicopters with cluster fittings, P/N 269A2234 or P/N 269A2235:

(1) Using paint remover, remove paint from the lugs on each cluster fitting. Wash with water and dry. The tailboom support strut must be removed prior to the paint stripping.

(2) Dye-penetrant inspect the lugs on each cluster fitting. See the following Figure 1:

BILLING CODE 4910-13-P

BILLING CODE 4910-13-C

(3) If a crack is found, before further flight, replace the cracked cluster fitting with an airworthy cluster fitting.

(b) Cluster fittings, P/N 269A2234 and P/N 269A2235, that have NOT been modified with Kit P/N SA-269K-106-1, are NOT eligible replacement parts.

(c) Within 150 hours TIS or 6 months, whichever occurs first, replace each cluster fitting, P/N 269A2234 and P/N 269A2235, with an airworthy cluster fitting or modify each cluster fitting, P/N 269A2234 and P/N 269A2235, with Kit, P/N SA-269K-106-1. Installing the kit is terminating action for the 50-hour TIS repetitive dye-penetrant inspection for these cluster fittings. Broken or cracked cluster fittings are not eligible for the kit modification.

(d) For helicopters with strut assemblies, P/N 269A2015 or 269A2015-5, accomplish the following:

(1) At intervals not to exceed 50 hours TIS:

(i) Remove the strut assemblies, P/N 269A2015 or P/N 269A2015-5.

(ii) Visually inspect the strut aluminum end fittings for deformation or damage and dye-penetrant inspect the strut aluminum end fittings for a crack in accordance with Step II of Schweizer Service Information Notice No. N-109.2, dated September 1, 1976 (SIN N-109.2).

(iii) If deformation, damage, or a crack is found, before further flight, modify the strut assemblies by replacing the aluminum end fittings with stainless steel end fittings, P/N 269A2017-3 and -5, and attach bolts in accordance with Step III of SIN N-109.2; or replace each strut assembly P/N 269A2015 with P/N 269A2015-9, and replace each strut assembly P/N 269A2015-5 with P/N 269A2015-11.

(2) Within 500 hours TIS or one year, whichever occurs first, modify or replace the strut assemblies in accordance with paragraph (d)(1)(iii) of this AD.

(e) For the Model 269C helicopters, within 100 hours TIS, serialize each strut assembly, P/N 269A2015-5 and P/N 269A2015-11, in accordance with Schweizer Service Information Notice No. N-108, dated May 21, 1973.

(f) Within 25 hours TIS or 60 days, whichever occurs first, for cluster fittings, P/N 269A2234-3 and P/N 269A2235-3, perform a one-time inspection and repair, if required, in accordance with Procedures, Part II of Schweizer Service Bulletin No. B-277, dated January 25, 2002.

(g) Before further flight, replace any cluster fitting that is cracked or has surface defects beyond rework limits with an airworthy cluster fitting.

(h) To request a different method of compliance or a different compliance time for this AD, follow the procedures in 14 CFR 39.19. Contact the Manager, New York Aircraft Certification Office (NYACO), Engine and Propeller Directorate, FAA, for information about previously approved alternative methods of compliance.

(i) The inspections, modifications or replacements, and serializing shall be done in accordance with Schweizer Service Information Notice No. N-109.2, dated September 1, 1976; Schweizer Service Information Notice No. N-108, dated May 21, 1973; and Schweizer Service Bulletin No. B-277, dated January 25, 2002, as applicable. The incorporation by reference of those documents was approved previously by the Director of the Federal Register, in accordance with 5 U.S.C. 552(a) and 1 CFR part 51, as of August 12, 2003 (68 FR 40478, July 8, 2003). Copies may be obtained from Schweizer Aircraft Corporation, P.O. Box 147, Elmira, New York 14902. Copies may be inspected at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

(j) This amendment becomes effective on August 10, 2004.

Issued in Fort Worth, Texas, on June 24, 2004.
Kim Smith,
Acting Manager, Rotorcraft Directorate, Aircraft Certification Service.

[FR Doc. 04-15128 Filed 7-2-04; 8:45 am]

BILLING CODE 4910-13-P